ENVIRONMENTAL PROTECTION AGENCY

[OPP-2004-0015; FRL-7354-3]

Dimethoate; Use Cancellation Order; Correction

AGENCY: Environmental Protection Agency (EPA).

ACTION: Notice; correction.

SUMMARY: EPA issued a notice in the Federal Register of January 28, 2004, prohibiting formulation of manufacturing use dimethoate products into end-use products labeled for use on certain crops. This notice announces amendments to the January 28, 2004 cancellation order. These amendments correctly identify the affected crops and pesticide products, eliminate a product cancellation, and correct the existing stocks provisions.

FOR FURTHER INFORMATION CONTACT: Patrick Dobak, Special Review and Reregistration Division (7508C), Office of Pesticide Programs, Environmental Protection Agency, 1200 Pennsylvania Ave., NW., Washington, DC 20460-0001; telephone number: (703) 308-8180; e-mail address: dobak.pat@epa.gov.

SUPPLEMENTARY INFORMATION:

I. General Information

A. Does this Action Apply to Me?

The Agency included in the January 28, 2004 cancellation order a list of those who may be potentially affected by this action. If you have questions regarding the applicability of this action to a particular entity, consult the person listed under FOR FURTHER INFORMATION CONTACT.

B. How Can I Get Copies of this Document and Other Related Information?

1. Docket. EPA has established an official public docket for this action under docket identification (ID) number OPP-2004-0015 and OPP-2003-0263. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

II. What Does this Correction Do?

The original cancellation order for uses of pesticide products containing dimethoate on various commodities was published in the Federal Register on January 28, 2004 (OPP-2004-0015) (69 FR 4135) (FRL-7340-1). Units II., III., and IV. in this notice correct the January 28, 2004 cancellation order Units II., III., and V. (pages 4135 and 4136) in order to make them consistent with the registrants' voluntary cancellation requests and with the September 10, 2003 notice of receipt of requests to cancel certain uses. Two crops included in the cancellation requests and identified in the September 10, 2003 (OPP-2003-0263) (68 FR 53371) (FRL-7321-2) notice of receipt (cabbage and collards) were inadvertently left out of the January 28, 2004 cancellation order. In addition, although Table 2 of the January 28, 2004 cancellation order was consistent with the September 10, 2003 notice of receipt, it was not consistent with all of the written requests by the registrants. Table 2 of the January 28, 2004 cancellation order has been deleted and product 7969-32 moved to Table 1 as only certain uses have been cancelled. Lastly, some language in Unit V. of the January 28, 2004 cancellation order is not consistent with the proposed existing stocks provisions included in the September 10, 2003 notice of receipt. The corrected language in this notice is consistent with the cancellation requests made by the registrants and with the September 10, 2003 notice of receipt. The January 28, 2004 cancellation order is hereby amended as follows:

1. This correction announces cancellation, as requested by the dimethoate technical registrants, of the following crop uses from all dimethoate technical products registered under section 3 of the Federal Insecticide, Fungicide, and Rodenticide Act (FIFRA): Apples, broccoli raab, cabbage, collards, fennel, grapes, head lettuce, lespedeza, spinach, tomatillo, and trefoil. The cancellations of the cabbage and collards uses are effective as of May 12, 2004. The cancellations of the other uses became effective January 28, 2004.

2. The manufacturing-use product registrations for which cancellation was requested are identified in Table 1 of this notice. The registrants will be allowed until January 27, 2005, to exhaust existing stocks of these products with labels that still include the cancelled uses identified in this notice. The Agency reserves the right to propose shorter existing stocks time periods for dimethoate products in future Federal Register notices and to include end-use products as well.

Table 1. Manufacturing-Use Products Subject to Cancellation of Certain Uses
Company name | Product name | Product registration no.
Cheminova | Chemethoate technical | 4787-7
Gowan | Gowan dimethoate technical | 10163-211
Drexel | Drexel dimethoate technical | 19713-209 and 19713-525
Micro Flo | Dimethoate technical | 51036-279
BASF Corporation | Perfekthion manufacturers' concentrate | 7969-32

III. Cancellation Order

Pursuant to section 6(f) of FIFRA, EPA approves the requested cancellations of the dimethoate uses on apples, broccoli raab, cabbage, collards, fennel, grapes, head lettuce, lespedeza, spinach, tomatillo, and trefoil for the product registrations identified in Table 1 of this notice. In addition, also pursuant to section 6(f) of FIFRA. Any distribution, sale, or use of existing stocks of the products identified in Table 1 of this notice in a manner inconsistent with any of the Provisions for Disposition of Existing Stocks in Unit IV., will be considered a violation of FIFRA.

EPA is not at this time proposing to revoke existing tolerances issued pursuant to the Federal Food, Drug, and Cosmetic Act for residues of dimethoate in or on apples, broccoli raab, cabbage, collards, fennel, grapes, head lettuce, lespedeza, spinach, tomatillo, and trefoil. This is because registrations authorizing such uses are still in effect for certain end-use products containing dimethoate.

IV. Provisions for Disposition of Existing Stocks

For purposes of this cancellation order, the term “existing stocks” is defined, pursuant to EPA's existing stocks policy of (June 26, 1991) (56 FR 29362), as those stocks of registered pesticide products which are currently in the United States and which have been packaged, labeled, and released for shipment prior to the effective date of the cancellation action. The existing stocks provisions of this cancellation order are as follows:

1. Distribution or sale. It is unlawful for any person to distribute or sell existing stocks of any product identified in Table 1 of this notice that is labeled for use on apples, grapes, spinach, head lettuce, cabbage, collards, broccoli raab, fennel, tomatillo, lespedeza, and trefoil, except:

i. Registrants identified in Table 1 of this notice may sell and distribute existing stocks of their own products until January 27, 2005.

ii. Any person may ship such existing stocks for the purpose of export consistent with section 17 of FIFRA or for proper disposal in accordance with applicable law.

2. Use for producing other products. It is unlawful for any person to use existing stocks of any product identified in Table 1 of this notice to produce any product labeled for use on apples, broccoli raab, cabbage, collards, fennel, grapes, head lettuce, lespedeza spinach, tomatillo, or trefoil after January 27, 2005.

List of Subjects

Environmental protection, Pesticides and pests.

Dated: May 29, 2004.
Debra Edwards,
Director, Special Review and Reregistration Division, Office of Pesticide Programs.

[FR Doc. 04-10778 Filed 5-11-04; 8:45 am]

BILLING CODE 6560-50-S